FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

Seawest Logistics, Inc., 5000 Armand Frappier, St. Hubert, JAZ 1G5 Canada. Officers:Fouad Zaki, Vice President (Qualifying Individual), Vincent Viviani, Gen. Manager.

CNN International LLC, 5308 NE. 2nd Terrace, Fort Lauderdale, FL 33334. Officers:Kathleen Holder, Manager (Qualifying Individual), Caroline Chatuel, Member.

Pacific Logistics Corp. dba PACLO Ocean Services, 5600 Knott Avenue, Buena Park, CA 90621. Officers:Sing Kit Leong, Corp. Secretary (Qualifying Individual), Douglas E. Hockersmith, CEO.

Core Nautical Group, LLC, 16499 NE 19 Ave., North Miami Beach, FL 33162. Officer:Maritza Silva, Managing Member (Qualifying Individual).

Non-Vessel Operating Common Carrier and Ocean Freight Forwarder Transportation Intermediary Applicants:

Scan Global Logistics, Inc., 768 So. Central Ave., Atlanta, GA 30354. Officer:Karen M. Gulrich, Vice President (Qualifying Individual).

Indigo Logistics, LLC, 601 Interchange Drive, Atlanta, GA 30336. Officer:Jeffrey W. Schumacher, Member (Qualifying Individual).

Global Transportation Management LLC, 35790 Northline Road, Romulus, MI 48174. Officer:Mark Brodie, Managing Member (Qualifying Individual).

World Logistics Services Corporation, 132 East 43rd St., The Chrysler Building, New York, NY 10017. Officers:Steve Licural, President (Qualifying Individual), Patricia Collins, CEO.

Atlantic Marine Services Inc., 6332 NW. 97th Ave., Miami, FL 33178. Officers:Fabrice Pimbert, Vice President (Qualifying Individual), Ernesto R. Botifoll, President.

MAC Industries Inc. dba MAC Container Line, 209 Aveinda Del Mar, San Clemente, CA 92672. Officers:Brad Heier, President (Qualifying Individual), Gwen A. Heier, Director.

CCT Corporation dba CCT Marine dba CCT Global Logistics, 12250 NW. 25th Street, Miami, FL 33182. Officer:Carolina Loyola, Secretary (Qualifying Individual).

Rado International, Inc., 2251 Sylvan Road, Ste. C, East Point, GA 30344. Officer:Lovett Brooks, CEO (Qualifying Individual).

Razor Enterprise Inc., 175-41 148th Rd., 2nd Floor, Jamaica, NY 11434. Officers:Bibi R. Juman, Vice President (Qualifying Individual), Edmond Yan, President.

Stream Links Express, Inc. dba E-Freight Solutions, 3750 West Century Blvd., Inglewood, CA 90303. Officers:Tommy Tam, President (Qualifying Individual), Cynthia Wong, Secretary.

Tex-Star Shipping Company, 15993 Cottage Ivy Circle, Tomball, TX 77377. Judy E. Nowak, Sole Proprietor.

Straight Point Line, Inc., 72 Sharp Street, Hingham, MA 02043. Officer:Paul Kalita, President (Qualifying Individual).

Goodnight International, Inc., 5160 William Mills Street, Jacksonville, FL 32226. Officers:Maryjane Mackey, President (Qualifying Individual), Franklin C. Johnson, CEO.

Meyers Van Lines, Inc., 370 Concord Ave., Bronx, NY 10454. Officer:Ofer Drori, President (Qualifying Individual).

CNS Logistics, Inc., 615 W. Walnut Street, Compton, CA 90220. Officers:Young S. Choi, CFO (Qualifying Individual), Soo Y. Yoon, President.

World Wide Duty Free, Ltd. dba AAA International Logistics, 1314-16 South Howard Street, Philadelphia, PA 19147. Officers:Roberto Valente, Vice President (Qualifying Individual), Natalya Ryabysheva, Treasurer, Treasurer.

ASC Miami, Corp., 9949 NW. 89th Ave., Bay #5, Medley, FL 33178. Officer:Maria Del Pilar Torres, President (Qualifying Individual).

Ocean Freight Forwarder—Ocean Transportation Intermediary Applicants:

Taymegs Impex Inc., 2429 S. Collins Street, Arlington, TX 76014. Officers:Michael O. Famuyide, President (Qualifying Individual), Muyis A. Kehinde, Secretary.

Transit Air Cargo, Inc., 2204 E. 4th Street, Santa Ana, CA 92705. Officer:Jamshed Khodayar, President (Qualifying Individual).

Noah International Logistics, Inc., 110 Mackenzie Lane, Fayetteville, GA. Officers:Noah C. Rader, President (Qualifying Individual), Reseanne N. Avola-Rader, Secretary.

United Shipping, Inc., 7041 Grand National Dr., Orlando, FL 32819. Officers:Saleh M. Abdul, Treasurer (Qualifying Individual), Ghasan M. Elkhatib, President.

Blue Lake Shipping LLC, 20721 NE Interlachen Lane, Fairview, OR 97024. Officer:Sheri L. Parshall, President (Qualifying Individual).

KT Logistics, Inc., 1915 McKinley Ave., La Verne, CA 91750. Officers:Mary Ann Ruiz, Treasurer (Qualifying Individual), James Amakasu, CEO.

Toll Global Forwarding (USA)Inc. dba Baltrans Logistics Inc., One Cross Island Plaza, Ste. 203, Rosedale, NY 11422. Officer:Tracy Wang, CEO (Qualifying Individual).

Temis Shipping LLC, 1200 Brickell Ave., Miami, FL 33131. Officers:Claudio Insenga, MGRM (Qualifying Individual), Annamaria Perrone, Member.

Dated: March 5, 2009.
Karen V. Gregory,
Secretary.

[FR Doc. E9-5135 Filed 3-10-09; 8:45 am]

BILLING CODE 6730-01-P